FEDERAL COMMUNICATIONS COMMISSION

[Report No. 2534]

Petition for Clarification and Waiver of Action in Rulemaking Proceeding

March 4, 2002.

Petition for Clarification and Waiver has been filed in the Commission's rulemaking proceeding listed in this Public Notice and published pursuant to 47 CFR 1.429(e). The full text of this document is available for viewing and copying in Room CY-A257, 445 12th Street, SW., Washington, DC or may be purchased from the Commission's copy contractor, Qualex International (202) 863-2893. Oppositions to this petition must be filed by March 26, 2002. See section 1.4(b)(1) of the Commission's rules (47 CFR 1.4(b)(1)). Replies to an opposition must be filed within 10 days after the time for filing oppositions has expired.

Subject: Billed Party Preference for O + Interlata Calls (CC Docket No. 92-77).

Number of Petitions Filed: 1.

William F. Caton,
Acting Secretary.

[FR Doc. 02-5678 Filed 3-8-02; 8:45 am]

BILLING CODE 6212-01-M